GENERAL SERVICES ADMINISTRATION

President's Commission on the Celebration of Women in American History

AGENCY: General Services Administration.

ACTION: Meeting notice.

SUMMARY: Notice is hereby given that the President's Commission on the Celebration of Women in American History will hold a open meeting from 1:00 p.m. to 5:00 p.m. on Tuesday, March 21, 2000, and from 9 a.m. to 12:00 p.m. on Wednesday, March 22, 2000 at the White House Conference Center, 726 Jackson Place, N.W. Washington, DC.

PURPOSE: To hear testimony about the Year 2000 Celebration plans for Women's History Month and review current related activities. Guest speakers will address how to celebrate achievements of American Women and review the status of the Commissions' recommendations for action for the year 2000. Participants may wish to make a statement covering personal interests in the history of women in America or share thoughts on appropriate commemorative events.

FOR FURTHER INFORMATION CONTACT: Martha Davis (202) 501-0705, Assistant to the Associate Administrator for Communications, General Services Administration. Also, inquiries may be sent to martha.davis@gsa.gov.

Dated: February 28, 2000.
Beth Newburger,
Associate Administrator for Communications.

[FR Doc. 00-5276 Filed 3-3-00; 8:45 am]

BILLING CODE 6820-34-M